DEPARTMENT OF STATE

[Public Notice: 9252]

In the Matter of the Review of the Designation of Revolutionary Struggle aka Epanastatikos Aghonas as a Foreign Terrorist Organization Pursuant to Section 219 of the Immigration and Nationality Act, as Amended

Based upon a review of the Administrative Records assembled in these matters pursuant to Section 219(a)(4)(C) of the Immigration and Nationality Act, as amended (8 U.S.C. 1189(a)(4)(C)) (“INA”), and in consultation with the Attorney General and the Secretary of the Treasury, I conclude that the circumstances that were the basis for the 2009 decision to designate the aforementioned organization as a Foreign Terrorist Organization has not changed in such a manner as to warrant revocation of the designation and that the national security of the United States does not warrant a revocation of the designation.

Therefore, I hereby determine that the designation of RS as a Foreign Terrorist Organization, pursuant to Section 219 of the INA (8 U.S.C. 1189), shall be maintained.

This determination shall be published in the Federal Register.

Dated: August 26, 2015.
John F. Kerry,
Secretary of State.

[FR Doc. 2015-21931 Filed 9-2-15; 8:45 am]

BILLING CODE 4710-AD-P